DEPARTMENT OF TRANSPORTATION

Federal Motor Carrier Safety Administration

49 CFR Parts 350, 390, 394, 395, and 398

RIN 2126-AA23

Hours of Service of Drivers; Driver Rest and Sleep for Safe Operations; Correction

AGENCY: Federal Motor Carrier Safety Administration (FMCSA), DOT.

ACTION: Proposed rule; correction.

SUMMARY: This document corrects the preamble to a proposed rule published in the Federal Register of May 2, 2000, regarding Hours of Service of Drivers and Driver Rest and Sleep for Safe Operations. This correction removes a statement included by error that the proposed rule would not have a significant economic impact on a substantial number of small entities. As we stated in the proposed rule, the FMCSA does not know with certainty the full economic impact of the proposal and therefore withdraws its negative certification.

FOR FURTHER INFORMATION CONTACT: Mr. David Miller, (202) 366-1790.

Correction

In proposed rule FR Doc. 00-10703, beginning on 25540 in the issue of May 2, 2000, make the following correction in the Supplementary Information section. On page 25596 in column three, remove the second full paragraph that reads:

“Therefore, the FMCSA, in compliance with the Regulatory Flexibility Act (5 U.S.C. 601-612), has considered the economic impacts of these requirements on small entities and certifies that this rule would not have a significant economic impact on a substantial number of small entities.”

Authority: 49 U.S.C. 504, 14122, 31133, 31136, and 31502; sec. 113, Pub. L. 103-311, 108 Stat. 1673, 1676; and 49 CFR 1.73.

Issued on: May 26, 2000.
Julie Anna Cirillo,
Acting Assistant Administrator.

[FR Doc. 00-13790 Filed 5-30-00; 9:12 am]

BILLING CODE 4910-22-M